DEPARTMENT OF AGRICULTURE

Food and Nutrition Service

Agency Information Collection Activities: Proposed Collection; 60-Day Public Comment Request for the Study Classifying and Measuring Household Food Waste

AGENCY: United States Department of Agriculture (USDA) Food and Nutrition Service (FNS) Center for Nutrition Policy and Promotion (CNPP).

ACTION: Notice.

SUMMARY: In accordance with the Paperwork Reduction Act of 1995, this notice invites the general public and other public agencies to comment on this proposed information collection. This collection is a new collection for identifying and describing the sources of food waste; identifying and describing how much food waste can be attributed to these different sources in U.S. households overall and by food category; identifying and describing how estimates of food waste attributable to each source, overall and by food category, are associated with household characteristics including household income and per capita food-at-home expenditure; identifying and describing how estimates of food waste attributable to each source, overall and by food category, are associated with adherence to best practices in minimizing household food waste; identifying and describing the minimum level of food waste by source, overall, and by food category, observable in a nationally representative sample of U.S. households; and using information collected from objectives 1-5 to develop updated food waste estimates and a predictive model that estimates the proportion of food waste at the household level for varied household types.

DATES: Written comments must be received on or before March 24, 2026.

ADDRESSES: Comments may be sent to: Michael Schwarz, Economist, Nutrition and Economic Analysis Branch, Nutrition Guidance and Analysis Division, Center for Nutrition Policy and Promotion, Food and Nutrition Service, U.S. Department of Agriculture, 1320 Braddock Place, Alexandria, VA 22314. Comments may also be submitted via email to michael.schwarz@usda.gov. Comments will also be accepted through the Federal eRulemaking Portal. Go to http://www.regulations.gov, and follow the online instructions for submitting comments electronically.

All written comments will be open for public inspection at the office of the Food and Nutrition Service during regular business hours (8:30 a.m. to 5:00 p.m.), Monday through Friday at Braddock Metro Center II, 1320 Braddock Place, Alexandria, VA 22314.

All responses to this notice will be summarized and included in the request for Office of Management and Budget approval. All comments will be a matter of public record.

FOR FURTHER INFORMATION CONTACT: Requests for additional information or copies of this information collected should be directed to Michael Schwarz by email at michael.schwarz@usda.gov or by phone at (703) 605-4314.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Classifying and Measuring Household Food Waste.

Form Number: Not Applicable.

OMB Number: Not Yet Assigned.

Expiration Date: Not Yet Determined.

Type of Request: New Collection.

Abstract: This is a new information collection request. The Thrifty Food Plan (TFP) outlines costs associated with foods and beverages that can be purchased on a limited budget to support a healthy diet at home; the TFP is the least costly of four nutritionally balanced food plans developed by the USDA. The average monthly TFP food cost estimates for a standard four-person household ¹ are used to set maximum monthly benefits for the Supplemental Nutrition Assistance Program (SNAP). Understanding the amount of food wasted at the household level is an integral part of the TFP because even the thriftiest households generate some food loss or waste.² This study aims to provide data-driven estimates of the amount of food waste households create and the minimum level of food waste generated by U.S. households (with a focus on four-person households). This study will use household surveys, digital food waste diaries, wastebin audits, and indepth interviews to update estimates of household food waste and develop a new predictive model to estimate household food waste for the foreseeable future. FNS has identified six objectives for this study: (1) Identify and describe the sources of food waste, (2) identify and describe how much food waste can be attributed to these different sources in the U.S. households overall and by food category, (3) identify and describe how estimates of food waste attributable to each source, overall and by food category, are associated with household characteristics including household income and per capita food-at-home expenditure, (4) identify and describe how estimates of food waste attributable to each source, overall and by food category, are associated with adherence to best practices in minimizing household food waste, (5) identify and describe the minimum level of food waste by source, overall, and by foot category, observable in a nationally representative sample of U.S. households, and (6) using information collected from Objectives 1-5, develop food waste estimates and a predictive model to estimate the proportion of food waste at the household level for varied household types.

¹ One adult man aged 20-50, one adult woman aged 20-50, one child aged 9-11 and one child aged 6-8.

² Unavoidable food waste occurs at the household level (though not at the fault of the household) because of supply chain inefficiencies, such as dairy spoiling prematurely because it was not handled properly by retailers (Mercier, et al., 2017).

Affected Public: Members of the public affected by the data collection are individuals who live in the contiguous U.S. and have a USPS mailing address.

Data collection: Recruitment materials will be mailed to 12,600 sampled households inviting them to participate in the data collection. This mailing will direct interested households to an online consent form and pre-screening questions to assess their eligibility to participate. Recruited households may receive up to three reminder mailings and two phone calls. The study team anticipates approximately 8 percent (1,008 households) of the 12,600 households invited to participate will complete the study consent form and pre-screening questions. The study team aims to enroll 900 households (89 percent) from among those completing the consent form and pre-screening questions to participate in data collection. Data collection will include a household survey of all 900 enrolled households, 12 weeks of digital food diaries per household (four 3-week long rounds, wastebin audits for a subset of up to 70 enrolled households, and indepth interviews with a subset of 80 enrolled households. Respondent groups identified for data collection include the 1,008 consented households that initially consent and, from that larger group, the 900 participating households that complete the household surveys and digital food diaries, the 70 households who participate in wastebin audits and the 80 households who participate in indepth interviews, and 11,592 nonrespondents.

Estimated Number of Respondents: The total estimated number of participants is 12,600; 11,592 of these households are estimated to be nonresponsive or be responsive to the consent but not fill out the initial household survey. Of the 12,600 contacted, 1,008 are estimated to be responsive and of these responsive participants 900 are expected to fill out the household survey. Of these 900 households, 80 will also participate in indepth interviews and 70 will participate in waste bin audits. From the initial sample of 900 households completing the household survey, the study team assumes 70 percent will complete all three weeks of the first round of digital food diaries. For each subsequent data collection period, the team assumes 5 percent attrition (i.e., 65 percent in the second round, 60 percent in the third round, 55 percent in the fourth round). Similarly, from the initial sample of 70 households completing the wastebin audits, the team assumes 5 percent attrition for each subsequent data collection period. The study team assumes they will successfully recruit the full target sample of 80 participants for the qualitative interview sample.

Estimated Number of Respondents: Of the 12,600 households contacted, 1,008 are estimated to be responsive and 11,469 are estimated to be nonresponsive.

Estimated Number of Responses per Respondent: 5.11 responses (24.72 for responsive participants and 3.41 for nonresponsive participants).

Estimated Total Annual Responses: 64,443 responses (24,920 annual responses for responsive participants and 39,523 annual responses for nonresponsive participants).

Estimated Time per Response: 0.22 hours (0.46 for responsive participants and 0.073 for nonresponsive participants).

Estimated Time of Response: From 0.017 to 4.00 hours (1 minute to 240 minutes), depending on the activity, as shown in the burden table below, with an average estimated time of 0.22 hours (13 minutes) for all responses. The average estimated time is calculated by dividing the 14,365 estimated total hours for responses in the burden table below by the 65,443 total estimated responses.

Estimated Total Annual Burden on Respondents: 14,365 hours (11,469 for responsive participants and 2,896 for nonresponsive participants). See the burden table below for estimated total annual burden for each type of respondent by data collection activity including the non-responses.

Type of respondent | Responsive: Number of respondents | Responsive: Frequency of response | Responsive: Total annual responses | Responsive: Annual burden (hours) | Nonresponsive: Number of non- respondents | Nonresponsive: Frequency of response | Nonresponsive: Total annual responses | Nonresponsive: Annual burden (hours) | Grand total annual burden estimate (hours) | Total annualized cost of respondent burden
Individuals living in the contiguous U.S. with a USPS address
Sampled households | 6,300 | 1 | 6,300 | 525.00 | 6,300 | 1 | 6,300 | 105.00 | 630.00 | $22,680.00
| 1,008 | 1 | 1,008 | 252.00 | 11,592 | 1 | 11,592 | 1,932.00 | 2,184.00 | 78,624.00
| 5,040 | 1 | 5,040 | 168.00 | 5,040 | 1 | 5,040 | 84.00 | 252.00 | 9,072.00
| 3,528 | 1 | 3,528 | 117.60 | 5,292 | 1 | 5,292 | 88.20 | 205.80 | 7,408.80
| 2,268 | 1 | 2,268 | 75.60 | 5,292 | 1 | 5,292 | 88.20 | 163.80 | 5,896.80
| 2,520 | 1 | 2,520 | 210.00 | 3,780 | 1 | 3,780 | 189.00 | 399.00 | 14,364.00
Enrolled households | 900 | 1 | 900 | 450.00 | 108 | 1 | 108 | 9.00 | 459.00 | 16,524.00
| 450 | 1 | 450 | 337.50 | 450 | 1 | 450 | 37.50 | 375.00 | 13,500.00
| 630 | 1 | 630 | 2,520.00 | 270 | 1 | 270 | 67.50 | 2,587.50 | 93,150.00
| 585 | 1 | 585 | 2,340.00 | 315 | 1 | 315 | 78.75 | 2,418.75 | 87,075.00
| 540 | 1 | 540 | 2,160.00 | 360 | 1 | 360 | 90.00 | 2,250.00 | 81,000.00
| 495 | 1 | 495 | 1,980.00 | 405 | 1 | 405 | 101.25 | 2,081.25 | 74,925.00
| 80 | 1 | 80 | 6.67 | 40 | 1 | 40 | 2.00 | 8.67 | 312.00
| 80 | 1 | 80 | 80.00 |  | 1 |  |  | 80.00 | 2,880.00
Enrolled households selected for wastebin audit | 250 100 64 | 1 1 1 | 250 100 64 | 62.50 75.00 48.00 | 125 36 | 1 1 1 | 125 36 | 10.42 3.00 | 72.92 75.00 51.00 | 2,625.00 2,700.00 1,836.00
| 58 | 1 | 58 | 43.50 | 42 | 1 | 42 | 3.50 | 47.00 | 1,692.00
| 54 | 1 | 54 | 40.50 | 46 | 1 | 46 | 3.83 | 44.33 | 1,596.00
Households total | 1,008 | 24.75 | 24,950 | 11,492 | 11,592 | 3.41 | 39,493 | 2,893 | 14,385 | 517,860.60

Patrick A. Penn,
Deputy Under Secretary of Food, Nutrition, and Consumer Services.

[FR Doc. 2026-01234 Filed 1-22-26; 8:45 am]

BILLING CODE 3410-30-P